DEPARTMENT OF HEALTH AND HUMAN SERVICES

Food and Drug Administration

[Docket No. 95G-0009]

The American Dairy Products Institute; Withdrawal of GRAS Affirmation Petition

AGENCY: Food and Drug Administration, HHS.

ACTION: Notice.

SUMMARY: The Food and Drug Administration (FDA) is announcing the withdrawal, without prejudice to a future filing, of a petition (GRASP 1G0371) proposing to affirm that the use of whey protein isolate and dairy product solids is generally recognized as safe (GRAS) as direct human food ingredients. Those food ingredients were redefined from the original submission containing specifications for reduced lactose whey, reduced minerals whey, and whey protein concentrate.

FOR FURTHER INFORMATION CONTACT: Arletta M. Beloian, Center for Food Safety and Applied Nutrition (HFS-206), Food and Drug Administration, 200 C St. SW., Washington, DC 20204, 202-418-3082.

SUPPLEMENTARY INFORMATION: In a notice published in the Federal Register of February 3, 1995 (60 FR 6713), FDA announced that a petition (GRASP IG0371) had been filed by The American Dairy Products Institute, 130 North Franklin St., Chicago, IL (c/o Keller and Heckman), Washington, DC. This petition proposed that the use of whey protein isolate and dairy product solids as direct ingredients in food be affirmed as GRAS.

The American Dairy Products Institute has now withdrawn the petition without prejudice to a future filing (21 CFR 171.7).

Dated: July 21, 2000.
Alan M. Rulis,
Director, Office of Premarket Approval, Center for Food Safety and Applied Nutrition.

[FR Doc. 00-20086 Filed 8-8-00; 8:45 am]

BILLING CODE 4160-01-F